DEPARTMENT OF HOMELAND SECURITY

Transportation Security Administration

Reports, Forms, and Record Keeping Requirements: Agency Information Collection Activity Under OMB Review; Aviation-Related Assistance in the Emergency Wartime Supplemental Appropriations Act of 2003

AGENCY: Transportation Security Administration (TSA), Department of Homeland Security.

ACTION: Notice of emergency clearance request.

SUMMARY: TSA has submitted a request for emergency processing of a new public information collection to the Office of Management and Budget (OMB) for review and clearance under the Paperwork Reduction Act of 1995 (Pub. L. 104-13, 44 U.S.C. 35). This notice announces that the Information Collection Request (ICR) abstracted below has been forwarded to OMB for review and comment. The ICR describes the nature of the information collection and its expected burden.

DATES: Send your comments by June 16, 2003. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Office of Finance and Administration, Transportation Security Administration HQ, West Tower, Floor 4, TSA-17, 400 Seventh Street, SW., Washington, DC 20590-0001; telephone (571) 227-1954; facsimile (571) 227-2912.

SUPPLEMENTARY INFORMATION:

Transportation Security Administration

Title: Aviation-related Assistance in the Emergency Wartime Supplemental Appropriations Act of 2003.

OMB Control Number: 1652-0012.

Type of Request: Emergency processing request of new collection.

Forms(s): NA.

Affected Public: U.S. Flag commercial air carriers.

Abstract: Pursuant to Public Law No. 108-11, 117 Stat. 559 (4/16/2003), “Emergency Wartime Supplemental Appropriations Act, 2003”, TSA is required to remit approximately $2.3 billion to U.S. Flag air carriers based on the proportional share each such carrier has paid or collected as of the date of enactment of this Act in passenger security and air carrier security fees to TSA. Prior to remittance of these funds, the Act requires TSA to enter into an executive compensation agreement with certain carriers as defined by the statute. To ascertain which carriers are required to enter into the compensation agreement, TSA is requesting that the airlines certify whether they are bound by statutory requirements, as each carrier is in the best position to know its own situation. TSA is therefore requiring each carrier to certify that funds were allocated appropriately and prepare a report detailing this information.

Number of Respondents: 70.

Estimated Annual Burden Hours: It is estimated that this certification and report will take 8 hours for each carrier to prepare, for a total burden of 560 hours.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on May 8, 2003.
Susan T. Tracey,
Deputy Chief Administrative Officer.

[FR Doc. 03-12172 Filed 5-14-03; 8:45 am]

BILLING CODE 4910-62-P